DEPARTMENT OF THE INTERIOR

Fish and Wildlife Service

Draft Study Plan

AGENCY: Fish and Wildlife Service, Department of the Interior.

ACTION: Notice of availability.

SUMMARY: The U.S. Fish and Wildlife Service (Service), on behalf of the Department of the Interior (DOI) as a natural resource trustee, announces the release for public review of the Draft Study Plan for a mink injury study for the Hudson River Natural Resource Damage Assessment (NRDA). The Draft Study Plan describes the Trustees' proposed approach to conducting this investigation, and seeks public feedback.

DATES: Written comments must be submitted on or before July 15, 2006.

ADDRESSES: Requests for copies of the Draft Study Plan may be made in person or by mail to: Ms. Kathryn Jahn, U.S. Fish and Wildlife Service, New York Field Office, 3817 Luker Road, Cortland, New York 13045. Written comments or materials regarding the Draft Study Plan should be sent to the same address.

FOR FURTHER INFORMATION CONTACT: Kathryn Jahn, Environmental Contaminants Branch, U.S. Fish and Wildlife Service, New York Field Office, 3817 Luker Road, Cortland, New York 13045.

Interested parties may also call 607-753-9334, send electronic mail to kathryn_jahn@fws.gov, or visit the FWS Hudson River NRDA Web site (http://www.fws.gov/contaminants/restorationplans/HudsonRiver/HudsonRiver.cfm) where the Draft Study Plan is posted.

SUPPLEMENTARY INFORMATION: Natural resources of the Hudson River have been contaminated though past and ongoing discharges of polychlorinated biphenyls (PCBs). The Hudson River Natural Resource Trustees—New York State, the U.S. Department of Commerce, and the U.S. Department of the Interior, are conducting a NRDA to assess those natural resources injured by PCBs. The Draft Study Plan is being released for public review and comment in accordance with the Trustees' NRDA Plan for the Hudson River issued in September 2002. That NRDA Plan was released in accordance with the Natural Resource Damage Assessment regulations found at Title 43 of the Code of Federal Regulations, part 11.

Pursuant to the Hudson River NRDA plan, the Trustees have developed this Study Plan for a mink injury determination effort. Interested members of the public are invited to review and comment on the Draft Study Plan (see ADDRESSES, FOR FURTHER INFORMATION CONTACT). All comments received on the Draft Study Plan will be considered and a response provided either through incorporation into the Final Study Plan or by letter to the commenter. The Trustees will also prepare a Responsiveness Summary, responding to public comments, that will be released to the public.

Author: The primary author of this notice is Ms. Kathryn Jahn, New York Field Office, U.S. Fish and Wildlife Service, 3817 Luker Road, Cortland, NY 13045.

Authority: The authority for this action is the Comprehensive Environmental Response, Compensation and Liability Act of 1980, as amended (“CERCLA”), 42 U.S.C. 9601 et seq.

Dated: June 14, 2006.
Richard O. Bennett,
Acting Regional Director, Region 5, U.S. Fish and Wildlife Service.

[FR Doc. E6-9652 Filed 6-19-06; 8:45 am]

BILLING CODE 4310-55-P